DEPARTMENT OF JUSTICE

Drug Enforcement Administration

21 CFR Part 1304

[DEA-143C]

RIN 1117-AA36

Establishment of Freight Forwarding Facilities for DEA Distributing Registrants

AGENCY: Drug Enforcement Administration (DEA), Justice.

ACTION: Final rule; correction.

SUMMARY: This document contains a correction to the final regulation which was published, on Wednesday, July 19, 2000 (65 FR 44674, rule document 00-18147). The regulation discussed the establishment of freight forwarding facilities for DEA distributing registrants.

EFFECTIVE DATE: August 14, 2000.

FOR FURTHER INFORMATION CONTACT: Patricia M. Good, Chief, Liaison and Policy Section, Office of Diversion Control, Drug Enforcement Administration, Washington, DC 20537, Telephone (202) 307-7297.

SUPPLEMENTARY INFORMATION:

The final regulation that is the subject of this correction established regulations governing freight forwarding facilities for DEA distributing registrants. The final regulation amended 21 CFR Parts 1300, 1301, 1304 and 1307. As published, the final regulation contained an error that could cause confusion in the regulated industry. Accordingly, the publication July 19, 2000 of the final regulation to establish freight forwarding facilities for DEA distributing registrants which was the subject of Federal Register Document 00-18147 is corrected as follows:

PART 1304—[CORRECTED]

1. On page 44679, column 1, line 26, in amendatory instruction 2., remove “proposed to be amended” and replace it with “is amended”:

Dated: August 7, 2000.
John H. King,
Deputy Assistant Administrator, Office of Diversion Control.

[FR Doc. 00-20469 Filed 8-11-00; 8:45 am]

BILLING CODE 4410-09-M